DEPARTMENT OF COMMERCE

National Oceanic and Atmospheric Administration

[I.D. 071404A]

Atlantic Highly Migratory Species (HMS); Notice of Sea Turtle Release/Protocol Workshops

AGENCY: National Marine Fisheries Service (NMFS), National Oceanic and Atmospheric Administration (NOAA), Department of Commerce.

ACTION: Notice of public workshops.

SUMMARY: NMFS is announcing workshops that will demonstrate the proper sea turtle handling and release techniques for vessel operators using pelagic longline gear in the Atlantic Ocean, including the Gulf of Mexico and the Carribean Sea. The workshops will also show the required release equipment and summarize the current regulations involving the mandatory use of handling and release techniques along with the types of release equipment for sea turtles.

DATES: The workshops will be held from July through September 2004. For specific dates and times see SUPPLEMENTARY INFORMATION.

ADDRESSES: The workshops will be held in Dulac and Larose, LA; Panama City, Pompano Beach and Ft. Pierce, FL; Charleston, SC; Wanchese, NC; Barnegat Light, NJ; East Setauket, NY; Narragansett, RI; and New Bedford, MA. For specific locations and times see SUPPLEMENTARY INFORMATION.

FOR FURTHER INFORMATION CONTACT: Written comments or questions regarding workshops should be addressed to Charlie Bergmann, 3209 Frederic St. Pascagoula, MS 39567 or by phone at (228)-762-4591 or (228)-623-0748.

Any additional information for Highly Migratory Species can be found online at http://www.nmfs.noaa.gov/sfa/hms or by calling Highly Migratory Species Management Division at (301)-713-2347.

SUPPLEMENTARY INFORMATION: Atlantic tuna, swordfish, shark, and billfish fisheries are managed under the authority of the Magnuson-Stevens Fishery Conservation and Management Act and regulated pursuant to the Atlantic Tunas Convention Act (ATCA), which authorizes rulemaking to implement recommendations of the International Commission for the Conservation of Atlantic Tunas (ICCAT). Implementing regulations for both the Fishery Management Plan for Atlantic Tunas, Swordfish, and Sharks and the Billfish Fishery Management Plan are at 50 CFR part 635.

On July 6, 2004, NMFS published a final rule (69 FR 40734) stating that all vessel operators in the pelagic longline fishery in the Atlantic Ocean, including Gulf of Mexico, and Carribean Sea must follow NMFS Careful Release Protocols For Sea Turtle Release With Minimal Injury. For more information about these protocols, visit the HMS web site or call Charlie Bergman (see ADDRESSES).

Also on June 1, 2004, NMFS released a Biological Opinion regarding the Atlantic pelagic longline fishery. This Biological Opinion requires NMFS to hold voluntary workshops demonstrating the new sea turtle handling and releasing techniques and equipment. Proper use will increase the post-release survival of the sea turtles. All pelagic longline fisherman (e.g., permit holders, vessel operators, and crew) in the Atlantic Ocean, including the Gulf of Mexico and Caribbean Sea, and any interested parties are strongly encouraged to attend.

The dates, times, and locations of these workshops are scheduled as follows:

1. July 27, 2004, Steven Le Seafood, 8893 Shrimpers Row, Dulac, LA 70353 from 11 a.m. to 2 p.m.

2. July 28, 2004, LaRose civic Center, 307 East 5th St., Larose, LA 70373 from 10 a.m. to 2:30 p.m.

3. July 29, 2004, NMFS Laboratory, 3500 Delwood Beach Dr., Panama City, FL 32408 from 4 p.m. to 7 p.m.

4. August 16, 2004, Pompano Beach Civic Center, 1801 NE 6th St., Pompano Beach, FL 33060 from 10 a.m. to 1 p.m.

5. August 17, 2004, Ft. Pierce Hurricane House, 8400 Picos Rd., Ft Pierce, FL 34945 from 9 a.m. to 12 p.m.

6. August 18, 2004, USCG Training Center, 1050 Register St., Charleston, SC 29405 from 1 p.m. to 4 p.m.

7. August 19, 2004, Etheridge Seafood, 4561 Mill Landing Rd., Wanchese, NC 27981 from 10 a.m. to 2 p.m.

8. September 13, 2004,Barnegat Light Fire Hall, 10th St & Central, Barnegat Light, NJ 24943 from 10 a.m. to 2 p.m.

9. September 14, 2004, New York State Department of Environmental Conservation, 205 Bellmead Rd., East Setauket, NY 11733 from 10 a.m. to 2 p.m.

10. September 16, 2004, Narragansett NOAA Lab, 28 Tarewell Dr., Narragansett, RI 22882 from 4 p.m. to 7 p.m.

11. September 17, 2004, MacCleans Seafood, 10 North Front St., New Bedford, MA 02740 from 10 p.m. to 2 p.m.

Special Accommodations

These meetings are physically accessible to people with disabilities. Request for sign language interpretation or other auxiliary aids should be directed to Charlie Bergmann at (228) 762-4591 or (228) 623-0748 at least 5 days before the meeting.

Authority: 16 U.S.C. 971 et seq. and 1801 et seq.

Dated: July 20, 2004.
Alan D. Risenhoover,
Acting Director, Office of Sustainable Fisheries, National Marine Fisheries Service.

[FR Doc. 04-16951 Filed 7-21-04; 3:07 pm]

BILLING CODE 3510-22-S